DEPARTMENT OF LABOR

Office of the Secretary

Submission for OMB Emergency Review; Comment Request

February 1, 2005.

The Department of Labor has submitted the following information collection request (ICR), utilizing emergency review procedures, to the Office of Management and Budget (OMB) for review and approval in accordance with the Paperwork Reduction Act of 1995 (Public Law 104-13, 44 U.S.C. Chapter 35). OMB approval has been requested by March 9, 2005. A copy of this ICR, with applicable supporting documentation, may be obtained by calling the Department of Labor's Departmental Clearance Officer, Ira L. Mills at (202) 693-4122 (this is not a toll-free number); via e-mail at: mills-ira@dol.gov; or (202) 693-7755 (TTY). The State Planning Guidance may also be found at the Web site— http://www.doleta.gov/usworkforce.

Comments and questions about the ICR listed below should be forwarded to the Office of Information and Regulatory Affairs, Attn: OMB Desk Officer for the Employment and Training Administration, Room 10235, Washington, DC 20503.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submissions of responses.)

Agency: Employment and Training Administration.

Type of Review: Revision of a currently approved collection.

Title: Planning Guidance and Instructions for Submission of the Strategic Five Year State Plan for Title I of the Workforce Investment Act of 1998 (WIA) and the Wagner Peyser Act.

OMB Number: 1205-0398.

Frequency: Every five years.

Type of Response: Reporting.

Affected Public: State, Local, or Tribal Government.

Total Respondents: 59.

Number of Responses: 59.

Total Burden: 1,475.

Total Annualized Capital/Startup Cost): $ 0.

Total Annual Costs (Operating/Maintaining Systems or Purchasing Services): $ 0.

Description: All current WIA State Plans will expire June 30, 2005. It is unlikely that Congress will pass a reauthorized Workforce Investment Act (WIA) before that time. Therefore, the enclosed Proposed WIA Planning Guidance is designed to advise States about how to continue their WIA Title I and Wagner Peyser Act programs under Public Law 105-220.

Ira L. Mills,
Departmental Clearance Officer.

[FR Doc. 05-2441 Filed 2-4-05; 8:45 am]

BILLING CODE 4510-30-P